DEPARTMENT OF TRANSPORTATION

Federal Aviation Administration

Thirty First RTCA 216 Aeronautical Systems Security Plenary

AGENCY: Federal Aviation Administration (FAA), U.S. Department of Transportation (DOT).

ACTION: Thirty First RTCA 216 Aeronautical Systems Security Plenary.

SUMMARY: The FAA is issuing this notice to advise the public of a meeting of Thirty First RTCA 216 Aeronautical Systems Security Plenary.

DATES: The meeting will be held February 06-10, 2017 09:00 a.m.-05:00 p.m. PLEASE NOTE: All attendees must pre-register by contacting Karan Hofmann at khofmann@rtca.org or 202-330-0680.

ADDRESSES: The meeting will be held at: Honeywell, 21111 N. 19th Ave, Phoenix, AZ 85027.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Thirty First RTCA 216 Aeronautical Systems Security Plenary. The agenda will include the following:

Monday, February 6, 2017—9:00 a.m.-5:00 p.m.

1. Welcome and Administrative Remarks

2. Introductions

3. Agenda Review

4. Meeting-Minutes Review

5. Review Joint Action List

6. Review White Papers (Status and intent of those planned and produced; Gain common understanding of intent; Resolve differences)

7. Schedule Update

8. Date, Place and Time of Next Meeting

9. New Business

10. Adjourn Plenary

Tuesday, February 7, 2017—9:00 a.m.-5:00 p.m.

Continuation of Plenary or Working Group Sessions

Wednesday, February 8, 2017—9:00 a.m.-5:00 p.m.

Continuation of Plenary or Working Group Sessions

Thursday, February 9, 2017—9:00 a.m.-5:00 p.m.

Continuation of Plenary or Working Group Sessions

Friday, February 10, 2017—9:00 a.m.-12:00 p.m.

Continuation of Plenary or Working Group Sessions

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on January 4, 2017.
Mohannad Dawoud,
Management & Program Analyst, Partnership Contracts Branch, ANG-A17, NextGen, Procurement Services Division, Federal Aviation Administration.

[FR Doc. 2017-00180 Filed 1-9-17; 8:45 am]

BILLING CODE 4910-13-P